ENVIRONMENTAL PROTECTION AGENCY

[EPA-HQ-OLEM-2020-0075; FRL-10007-13-OLEM]

Hazardous Waste Electronic Manifest System (“e-Manifest”) Advisory Board; Revised Notice of Public Meeting

AGENCY: Environmental Protection Agency (EPA).

ACTION: Revised notice.

SUMMARY: The Environmental Protection Agency (EPA) will convene the Hazardous Waste Electronic System (“e-Manifest”) Advisory Board for a three day virtual public meeting (held remotely via webcast and phone) to seek the Board's consultation and recommendations regarding the e-Manifest system (Meeting Theme: “Reengineering Electronic Signatures for Generators and Transporters to Increase Adoption of Electronic Manifests”). This notice is a revision of the notice published in the Federal Register (FR) of February 20, 2020, announcing the e-Manifest public meeting. Due to potential impacts from the Coronavirus Disease 2019 (COVID-19), EPA is converting this public e-Manifest Advisory Board meeting from an in-person meeting to a fully virtual meeting and is thus updating information accordingly.

DATES: The e-Manifest Advisory Board meeting announced on February 20, 2020 (85 FR 9763) has been converted to a three-day virtual public meeting which will be held on April 14-16, 2020, from approximately 10:00 a.m. to 6:00 p.m. (EDT) each day.

ADDRESSES: This public meeting will be conducted entirely via internet webcasting and telephone. Please refer to the e-Manifest website at www.epa.gov/e-manifest for information on how to access the live webcasting of this public meeting.

Special accommodations. For information on access or services for individuals with disabilities, and to request accommodation of a disability, please contact the Designated Federal Officer (DFO) listed under FOR FURTHER INFORMATION CONTACT at least ten (10) days prior to the meeting to give the EPA as much time as possible to process your request.

FOR FURTHER INFORMATION CONTACT: Any member of the public who wishes further information should contact the e-Manifest Advisory Board DFO, Fred Jenkins, U.S. Environmental Protection Agency, Office of Resource Conservation and Recovery, (MC: 5303P), 1200 Pennsylvania Avenue NW, Washington, DC 20460, Phone: 703-308-7049; or by email: jenkins.fred@epa.gov.

SUPPLEMENTARY INFORMATION: Meeting access: This meeting will be open to the public. The full agenda and meeting materials will be available in the docket for the meeting and at the e-Manifest website at www.epa.gov/e-manifest. This public meeting will be conducted entirely virtually via the internet and by telephone. Please refer to the e-Manifest website at www.epa.gov/e-manifest for information on how to access the live webcasting of this public meeting. For questions on document availability, or if you do not have access to the internet, consult with the DFO, Fred Jenkins, listed above under FOR FURTHER INFORMATION CONTACT. In the event the Agency needs to make subsequent changes to this meeting, the Agency will post future notices to its e-Manifest website (www.epa.gov/e-manifest). The Agency strongly encourages the public to refer to the e-Manifest website for the latest meeting information, as sudden changes may be necessary.

I. General Information

A. Does this action apply to me?

This action is directed to the public in general. This action may be of particular interest to persons who are or may be subject to the Hazardous Waste Electronic Manifest Establishment (e-Manifest) Act.

B. How may I participate in this meeting?

You may participate in this meeting by following the instructions in this document. To ensure proper receipt of your public comments by the EPA, it is imperative that you identify docket ID number EPA-HQ-OLEM-2020-0075.

1. Oral comments. To pre-register to make oral comments, please contact the DFO, Fred Jenkins, listed under FOR FURTHER INFORMATION CONTACT. Requests to present oral comments during the meeting will be accepted up until Tuesday April 7, 2020. To the extent that time permits, interested persons who have not pre-registered may be permitted by the e-Manifest Advisory Board Chair to present oral comments during the virtual meeting at the designated time on the agenda. Oral comments before the e-Manifest Advisory Board are limited to approximately five (5) minutes per individual and/or organization unless prior arrangements have been made.

2. Written comments. The Agency encourages written comments for the virtual webcast meeting be submitted via regulations.gov under docket number EPA-HQ-OLEM-2020-0075 on or before April 7, 2020, to provide the e-Manifest Advisory Board the time necessary to consider and review the written comments. The e-Manifest Advisory Board may not be able to fully consider written comments submitted after April 7, 2020. Written comments are accepted until the date of the meeting, but anyone submitting written comments after April 7, 2020, should contact the DFO listed under FOR FURTHER INFORMATION CONTACT.

C. What should I consider as I prepare my comments for EPA?

1. Submitting CBI. Do not submit CBI information to EPA through regulations.gov or email. If your comments contain any information that you consider to be CBI or otherwise protected, please contact the DFO listed under FOR FURTHER INFORMATION CONTACT to obtain special instructions before submitting your comments.

2. Tips for preparing your comments. When preparing and submitting your comments, see Tips for Effective Comments at http://www.epa.gov/dockets/comments.html.

C. Purpose of the e-Manifest Advisory Board

The Hazardous Waste Electronic Manifest System Advisory Board is established in accordance with the provisions of the Hazardous Waste Electronic Manifest Establishment Act, 42 U.S.C. 6939g, and the Federal Advisory Committee Act (FACA), 5 U.S.C. App.2. The e-Manifest Advisory Board is in the public interest and supports the EPA in performing its duties and responsibilities.

The e-Manifest Advisory Board will provide recommendations on matters related to the operational activities, functions, policies, and regulations of the EPA under the e-Manifest Act, including: The effectiveness of the e-Manifest IT system and associated user fees and processes; matters and policies related to the e-Manifest program; regulations and guidance as required by the e-Manifest Act; actions to encourage the use of the electronic (paperless) system; changes to the user fees as described in e-Manifest Act Section 2 (c)(3)(B)(i); and issues in the e-Manifest area, including those identified in the EPA' s E-Enterprise strategy that intersect with the e-Manifest system, such as: Business-to-business communications; performance standards for mobile devices; and the EPA's Cross Media Electronic Reporting Rule (CROMERR) requirements.

The sole duty of the Advisory Board is to provide advice and recommendations to the EPA Administrator. As required by the e-Manifest Act, the e-Manifest Advisory Board is composed of nine (9) members. One (1) member is the EPA Administrator (or a designee), who serves as Chairperson of the Advisory Board. The rest of the committee is composed of:

• At least two (2) members who have expertise in information technology;

• At least three (3) members who have experience in using or represent users of the manifest system to track the transportation of hazardous waste under the e-Manifest Act;

• At least three (3) members who are state representatives responsible for processing manifests.

All members of the e-Manifest Advisory Board, except for the EPA Administrator, are appointed as Special Government Employees or representatives.

D. Public Meeting

EPA launched the e-Manifest system on June 30, 2018. e-Manifest enables those persons required to use a Resource Conservation and Recovery Act manifest under either federal or state law to have the option of using electronic manifests to track shipments of hazardous waste and to meet certain RCRA requirements. By enabling the transition from a paper-intensive process to an electronic system, the EPA estimates e-Manifest will ultimately save state and industry users more than $50 million annually, once electronic manifests are widely adopted.

EPA will convene its next public meeting of the e-Manifest System Advisory Board from April 14-16, 2020. The purpose of this meeting is for the Board to advise the Agency on its proposed additional methods for increasing the use of electronic manifests, which include reengineering electronic signatures for generators and transporters to reduce the administrative burdens and barriers to electronic manifesting.

Since the launch of e-Manifest, the Agency has learned through experience that it can likely increase adoption of electronic manifests by providing generators and transporters more flexibility in their methods for performing electronic signatures. This is supported by the final recommendations of the e-Manifest Advisory Board, following its June 2019 Advisory Board meeting, which was focused on increasing adoption of the e-Manifest system. In its final recommendations, delivered to the Agency on September 23, 2019, the Advisory Board identified numerous challenges with generator and transporter adoption of electronic manifests. In particular, the Advisory Board asked the Agency to reevaluate its signature requirements and stated that the Agency should consider the costs and benefits, given the diversity of roles/types of users.

The Agency is thus considering additional methods available for generator and transporter electronic signatures and will consult the Advisory Board on these methods during the April 2020 Advisory Board meeting. Specifically, EPA will present three methods for generator/transporter electronic signature, which could potentially all be available for generators and transporters to use.

A first method for generators and transporters is to require at least one person (per respective generator and transporter) to become registered in EPA's RCRAInfo system as a “Site Manager.” (Note: The Agency is not intending at this time to make any changes to the current registration process for Site Managers as this role allows users to manage permissions within their organization with respect to other modules in EPA's RCRAInfo system, in addition to e-Manifest.) Under this method, the Site Manager would identify/confirm/update the specific personnel (e.g., employee on the loading dock, driver) on the electronic manifest who will have firsthand knowledge of the manifest shipment, and who will be responsible for electronically signing the generator certification or transporter acknowledgment of receipt by identifying/confirming/updating the name and either a phone number or email address associated with that name. The system would then send a link to that phone number/email of the individual employee, who could then simply click a link to electronically sign the electronic manifest.

A second method for generators and transporters is to require at least one person to become registered in EPA's RCRAInfo system as a “Site Manager” for their respective sites, and have all other personnel become registered in the same way as “Preparers” are registered. These personnel would receive a username and password using the current registration process and would then request access to their site(s), as appropriate, but would not need to undergo further identity proofing. Generator and transporter personnel that are registered could then log in with their username/password and could create and edit electronic manifests for their sites. Electronic signatures under this method for generators and transporters would consist of, after logging in to their account, clicking a button to electronically sign.

A third method is for generators and transporters to use digitized signature pads that have been approved by the Agency under its CROMERR program. This method would require generators and transporters to possess units that allow them to capture a physical signature electronically, for example, using a stylus.

The Agency intends to provide more detail regarding these methods in its meeting materials, which will be published in the docket for the meeting.

E. e-Manifest Advisory Board Documents and Meeting Minutes

The meeting background paper, related supporting materials, charge/questions to the Advisory Board, the Advisory Board membership roster (i.e., members attending this meeting), and the meeting agenda are available in the docket for this meeting. In addition, the Agency may provide additional background documents as the materials become available. You may obtain electronic copies of these documents, and certain other related documents that might be available at https://www.regulations.gov/ and the e-Manifest Advisory Board website at: https://www.epa.gov/e-manifest/hazardous-waste-electronic-manifest-system-e-manifest-advisory-board.

The e-Manifest Advisory Board will prepare meeting minutes summarizing its recommendations to the Agency approximately ninety (90) days after the meeting. The meeting minutes will be posted on the e-Manifest Advisory Board website or may be obtained from the docket at http://www.regulations.gov/.

Dated: March 23, 2020.
Donna Salyer,
Acting Director, Office of Resource Conservation and Recovery, Office of Land and Emergency Management.

[FR Doc. 2020-06515 Filed 3-26-20; 8:45 am]

BILLING CODE 6560-50-P